DEPARTMENT OF COMMERCE

International Trade Administration

[A-570-084]

Certain Quartz Surface Products From the People's Republic of China: Preliminary Results of the Antidumping Duty Administrative Review and Rescission of Administrative Review, in Part; 2018-2020

AGENCY: Enforcement and Compliance, International Trade Administration, Department of Commerce.

SUMMARY: The Department of Commerce (Commerce) is conducting an administrative review of the antidumping duty (AD) order on certain quartz surface products (quartz surface products) from the People's Republic of China (China). The period of review (POR) is November 20, 2018, through June 30, 2020. Commerce preliminarily finds that certain companies made sales of subject merchandise at less than normal value. We are also rescinding this review for nine companies where timely requests for withdrawals were filed by all parties who requested the reviews. Interested parties are invited to comment on these preliminary results.

DATES: Applicable April 6, 2021.

FOR FURTHER INFORMATION CONTACT: Benjamin A. Luberda, AD/CVD Operations, Office II, Enforcement and Compliance, International Trade Administration, U.S. Department of Commerce, 1401 Constitution Avenue NW, Washington, DC 20230; telephone: (202) 482-2185.

SUPPLEMENTARY INFORMATION:

Background

On July 1, 2020, Commerce published in the Federal Register a notice of opportunity to request an administrative review of the AD order on quartz surface products from China.¹ Commerce published the notice of initiation on September 3, 2020, with respect to 14 companies.² On October 19, 2020, we selected Heshan City Nande Stone Co., Ltd., (Nande Stone) and Xiamen Deyuan Panmin Trading Co., Ltd., (Xiamen Deyuan) for individual examination as the mandatory respondents in this administrative review.³

¹ See Antidumping or Countervailing Duty Order, Finding, or Suspended Investigation; Opportunity to Request Administrative Review, 85 FR 39531 (July 1, 2020).

² See Initiation of Antidumping and Countervailing Duty Administrative Reviews, 85 FR 54983 (September 3, 2020).

³ See Memorandum, “2018-2020 Administrative Review of the Antidumping Duty Order on Certain Quartz Surface Products from the People's Republic of China: Selection of Respondents for Individual Examination,” dated October 19, 2020.

Scope of the Order

The products covered by the order are quartz surface products from China. Imports of subject merchandise are currently classified under the Harmonized Tariff Schedule of the United States (HTSUS) subheadings 6810.99.0010. Subject merchandise may also enter under HTSUS subheadings 6810.11.0010, 6810.11.0070, 6810.19.1200, 6810.19.1400, 6810.19.5000, 6810.91.0000, 6810.99.0080, 6815.99.4070, 2506.10.0010, 2506.10.0050, 2506.20.0010, 2506.20.0080, and 7016.90.10.50. Although the HTSUS subheadings are provided for convenience and customs purposes, the written description of the scope of the order is dispositive.⁴

⁴ For a complete description of the Scope of the Order, see Memorandum, “Decision Memorandum for Preliminary Results of the 2018-2020 Antidumping Duty Administrative Review: Certain Quartz Surface Products from the People's Republic of China,” issued concurrently with, and hereby adopted by, this notice (Preliminary Decision Memorandum).

Methodology

Commerce is conducting this review in accordance with section 751(a)(1)(B) of the Tariff Act of 1930, as amended (the Act).

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://enforcement.trade.gov/frn/summary/prc/prc-fr.htm. A list of topics included in the Preliminary Decision Memorandum is provided as an appendix to this notice.

China-Wide Entity

In accordance with Commerce's policy, the China-wide entity will not be under review unless a party specifically requests, or Commerce self-initiates, a review of the entity.⁵ Because no party requested a review of the China-wide entity in this review, the entity is not under review, and the entity's rate is not subject to change (i.e., 326.15 percent).⁶

⁵ See Antidumping Proceedings: Announcement of Change in Department Practice for Respondent Selection in Antidumping Duty Proceedings and Conditional Review of the Nonmarket Economy Entity in NME Antidumping Duty Proceedings, 78 FR 65963 (November 4, 2013).

⁶ The China-wide rate determined in the investigation was 336.69 percent. This rate was adjusted for export subsidies to determine the cash deposit rate (i.e., 326.15 percent) collected for companies in the China-wide entity. See Certain Quartz Surface Products from the People's Republic of China: Antidumping and Countervailing Duty Orders, 84 FR 33053, 33054 (July 11, 2019).

Partial Rescission of Administrative Review

Pursuant to 19 CFR 351.213(d)(1), Commerce will rescind an administrative review, in whole or in part, if the party or parties that requested a review withdraws their request(s) within 90 days of the publication date of the notice of initiation of the requested review. Between September 18, 2020, and December 2, 2020, parties timely withdrew their requests for an administrative review of Deyuan Stone; Farfield Trade Co., Ltd.; Foshan Adamant Science & Technology Co., Ltd. (Foshan Adamant); Foshan Modern Stone Co., Ltd.; Lanling Jinzhao New Material Co., Ltd.; QJ Quartz Stone Ltd.; Sinostone (Guangdong) Co., Ltd.; Wisdom Stone Co., Ltd.; and Yunfu Honghai Co., Ltd., aka Yunfu Honghai Stone Co., Ltd.⁷ Because all requests for reviews of these companies were timely withdrawn, in accordance with 19 CFR 351.213(d)(1), Commerce is rescinding this review of the AD order on quartz surface products from China with respect to these companies. The review will continue for the remaining five companies for which an administrative review was requested.⁸

⁷ See Quartz Master LLC's (Quartz Master's) Letter, “Partial Withdrawal of Request for Administrative Review of the Antidumping Duty Order on Quartz Surface Products from the People's Republic of China,” dated September 18, 2020; see also Quartz Master's Letter, “Withdrawal of Quartz Master's Remaining Review Requests for Administrative Review of the Antidumping Duty Order on Quartz Surface Products from the People's Republic of China,” dated December 2, 2020; Foshan Adamant's Letter, “Foshan Adamant's Withdrawal of Request for Administrative Review of the Antidumping Duty Order on Quartz Surface Products from the People's Republic of China,” dated December 2, 2020; and National Stoneworks, LLC's Letter, “Quartz Surface Products from the People's Republic of China: Withdrawal of Request for Administrative Review,” dated December 2, 2020.

⁸ These companies are Xiamen Deyuan; Nande Stone; Dava Industry Co., Ltd. (Dava Industry); Deyuan Panmin International Limited (Deyuan Panmin); and Guangzhou Hercules Quartz Stone Co., Ltd. (Guangzhou Hercules).

Preliminary Results of Review

Commerce finds that the two mandatory respondents, Nande Stone and Xiamen Deyuan, have not established their eligibility for a separate rate because they did not respond to Commerce's request for information ⁹ and are considered to be part of the China-wide entity for these preliminary results. Further, Deyuan Panmin notified Commerce it would not respond to Commerce's request for information.¹⁰ Accordingly, we find that Deyuan Panmin has not established its eligibility for a separate rate and is considered to be part of the China-wide entity for these preliminary results. Additionally, because Dava Industry and Guangzhou Hercules did not submit separate rate applications or certifications, we preliminarily determine they are ineligible for a separate rate and are part of the China-wide entity. Accordingly, all companies subject to the administrative review are ineligible for a separate rate and are part of the China-wide entity for these preliminary results.

⁹ See Commerce's Letters, “2018-2020 Administrative Review of the Antidumping Duty Order on Certain Quartz Surface Products from the People's Republic of China: Request for Information”; and “2018-2020 Administrative Review of the Antidumping Duty Order on Certain Quartz Surface Products from the People's Republic of China: Request for Information,” both dated Octobers 20, 2020.

¹⁰ See Xiamen Deyuan and Deyuan Panmin's Letter, “Quartz Surface Products from the People's Republic of China—Inability to Respond to Questionnaire,” dated November 25, 2020.

Disclosure and Public Comment

Interested parties may submit case briefs no later than 30 days after the date of publication of this notice.¹¹ Rebuttal briefs, limited to issues raised in the case briefs, may be filed no later than five days after the time limit for filing case briefs.¹² Parties who submit case brief or rebuttal briefs in this proceeding are encouraged to submit with each argument: (1) A statement of the issue; (2) a brief summary of the argument; and (3) a table of authorities.¹³ Case and rebuttal briefs should be filed using ACCESS.¹⁴

¹¹ See 19 CFR 351.309(c).

¹² See 19 CFR 351.309(d).

¹³ See 19 CFR 351.309(c)(2).

¹⁴ See 19 CFR 351.303.

Pursuant to 19 CFR 351.310(c), interested parties who wish to request a hearing must submit a written request to the Assistant Secretary for Enforcement and Compliance, U.S. Department of Commerce, filed electronically via ACCESS within 30 days after the date of publication of this notice.¹⁵ Hearing requests should contain: (1) The party's name, address, and telephone number; (2) the number of participants; and (3) a list of issues to be discussed. Issues raised in the hearing will be limited to issues raised in the briefs. If a request for a hearing is made, Commerce intends to hold the hearing at a date and time to be determined.¹⁶ Parties should confirm by telephone the date, time, and location of the hearing two days before the scheduled date.

¹⁵ See 19 CFR 351.310(c).

¹⁶ See 19 CFR 351.310(d).

An electronically-filed document must be received successfully in its entirety by ACCESS by 5:00 p.m. Eastern Time on the established deadline.

Commerce intends to issue the final results of this administrative review, which will include the results of its analysis of all issues raised in the case briefs, not later than 120 days after the date of publication of this notice, unless otherwise extended.¹⁷

¹⁷ See section 751(a)(3)(A) of the Act.

Assessment Rates

Upon completion of the administrative review, Commerce shall determine, and U.S. Customs and Border Protection (CBP) shall assess, antidumping duties on all appropriate entries covered by this review.¹⁸ For the final results, if we continue to treat the following companies as part of China-wide entity, we will instruct CBP to apply an ad valorem assessment rate of 326.15 percent to all entries of subject merchandise during the POR that were produced and/or exported by those companies: Dava Industry, Deyuan Panmin, Guangzhou Hercules, Nande Stone, and Xiamen Deyuan.

¹⁸ See 19 CFR 351.212(b)(1).

We intend to issue assessment instructions to CBP 35 days after the publication of the final results of this review.

Cash Deposit Requirements

The following cash deposit requirements will be effective upon publication of the final results of this administrative review for all shipments of the subject merchandise from China entered, or withdrawn from warehouse, for consumption on or after the publication date, as provided for by section 751(a)(2)(C) of the Act: (1) For all previously investigated Chinese and non-Chinese exporters for which a review was not requested and that received a separate rate in a prior segment of this proceeding, the cash deposit rate will continue to be the existing exporter-specific rate published in the most recently-completed segment of this proceeding; (2) for all Chinese exporters of subject merchandise that have not been found to be entitled to a separate rate, the cash deposit rate will be the rate for China-wide entity, 326.15 percent; and (3) for all exporters of subject merchandise that are not located in China and have not received a separate rate, the cash deposit rate will be the rate applicable to Chinese exporter(s) that supplied that non-Chinese exporter. These deposit requirements, when imposed, shall remain in effect until further notice.

Notification to Importers

This notice also serves as a preliminary reminder to importers of their responsibility under 19 CFR 351.402(f) to file a certificate regarding the reimbursement of antidumping and/or countervailing duties prior to liquidation of the relevant entries during this review period. Failure to comply with this requirement could result in the Secretary's presumption that reimbursement of antidumping and/or countervailing duties occurred and the subsequent assessment of double antidumping duties.

Notification to Interested Parties

We are issuing and publishing these preliminary results in accordance with sections 751(a)(l), 751(a)(3), and 777(i)(l) of the Act and 19 CFR 351.213 and 351.221(b)(4).

Dated: March 30, 2021.
Christian Marsh,
Acting Assistant Secretary for Enforcement and Compliance.

Appendix—List of Topics Discussed in the Preliminary Decision Memorandum

I. Summary

II. Background

III. Scope of the Order

IV. Discussion of the Methodology

V. Recommendation

[FR Doc. 2021-07029 Filed 4-5-21; 8:45 am]

BILLING CODE 3510-DS-P